TENNESSEE VALLEY AUTHORITY

Sunshine Act Meeting

Meeting No. 12-04

November 15, 2012

The TVA Board of Directors will hold a public meeting on November 15, 2012, in the Northeast Alabama Community College Lyceum Auditorium, Lowell Barron Highway at Alabama Highway 35, Rainsville, Alabama. The public may comment on any agenda item or subject at a public listening session which begins at 8:30 a.m. (CT). Following the end of the public listening session, the meeting will be called to order to consider the agenda items listed below. On-site registration will be available until 15 minutes before the public listening session begins at 8:30 a.m. (CT). Preregistered speakers will address the Board first. TVA management will answer questions from the news media following the Board meeting.

STATUS: Open.

Agenda

Chairman's Welcome.

Old Business

Approval of minutes of August 16, 2012, Board Meeting.

New Business

1. Resolution Honoring Tom Kilgore

2. Report from President and CEO

3. Report of the Finance, Rates, and Portfolio Committee

A. Financial Performance Update

B. Section 13 Tax Equivalent Payments

C. Contract with GE Consortium for Water Treatment Services

D. Supplemental Rate for Residential Appurtenances

E. Industrial Customer Contract Amendment

4. Report of the People and Performance Committee

A. Performance and Compensation

5. Report of the Audit, Risk, and Regulation Committee

A. Assistant Corporate Secretary Appointment

6. Report of the Nuclear Oversight Committee

7. Report of the External Relations Committee

A. Muscle Shoals Development Project

B. Regional Resource Stewardship Council Appointments

8. Recognition of Departing Directors

9. Information Items

A. Retention of executive search consultant to identify candidates for Chief Executive Officer position

B. Appointment of new Chief Executive Officer

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 8, 2012.
Ralph E. Rodgers,
General Counsel and Secretary.

[FR Doc. 2012-27821 Filed 11-9-12; 4:15 pm]

BILLING CODE 8120-01-P